DEPARTMENT OF HOMELAND SECURITY

Human Resource Management System Senior Review Advisory Committee

AGENCY: Directorate for Management, DHS.

ACTION: Notice of meeting.

SUMMARY: The Human Resource Management System Senior Review Advisory Committee (Committee or SRC) will meet in its inaugural session on Friday, July 25, 2003. The SRC is charged with reviewing the work of the Department of Homeland Security/Office of Personnel Management (DHS/OPM) Design Team and providing options to the Secretary of DHS and the Director of OPM for their consideration in establishing the new Human Resource Management System provided for in section 841 of the Homeland Security Act. The entire meeting will be open to the public.

DATES: The SRC will meet July 25, 2003 from 8:30 a.m. to 1 p.m. Notice of this meeting is published less than 15 days in advance (14 days notice is provided) in order to accommodate the schedules of several SRC members who will be unavailable to meet until the next anticipated meeting in September. Requests by members of the public to make oral presentations at the meeting and written statements for the SRC should reach the Designated Federal Official at DHS on or before July 21, 2003. Written statements may also be filed with the SRC at the meeting. All written submissions will become part of the Committee record and deliberations.

ADDRESSES: The SRC meeting will be held at the Radisson Barcelo Hotel Washington, 2121 P Street NW., Washington DC 20037. Send written statements and requests to make an oral presentation to the SRC Designated Federal Officer (DFO) at: Department of Homeland Security, Washington, DC 20528. For delivery services such as Fedex, UPS, etc., the address is: Department of Homeland Security, Attn: Under Secretary for Management/CHCO/Melissa Allen, Via: Remote Delivery Site (RDS), 245 Murray Drive, Bldg 410, Washington, DC 20528.

FOR FURTHER INFORMATION CONTACT: Ms. Kay Frances Dolan, Director Human Resource Policy, DHS, and Ms. Melissa Allen, Senior Human Resource Advisor, DHS, have been designated as DFOs for the SRC. They can be reached on 202-692-4272; KayFrances.Dolan@dhs.gov or Melissa.Allen@dhs.gov; and at the addresses listed above.

SUPPLEMENTARY INFORMATION: Objective. The purpose of this meeting is to (1) welcome and introduce the members of the Committee; (2) receive briefings by senior members of the HR Design Team on the research strategy and status; (3) hold discussions among the SRC members on the guiding principles and system elements for development of human resource system options; (4) discuss and review the template for presentation of the options at future meetings. Following these formal agenda items, the Committee will hear from members of the public.

Public Presentations. Requests to make oral presentations should reach the Designated Federal Official at DHS on or before July 21, 2003. Oral presentations will be limited to approximately 3 minutes to allow sufficient time for any questions from the Committee. Oral presentations may be supplemented by written statements; there is no limit to written statements submitted for the record. If there is insufficient time to honor all requests for oral presentations, the Designated Federal Official (DFO) will seek to ensure a full range of views and opinions are heard. Members of the public who wish to file a written statement with the SRC may do so in person or send it to the DFO (see addresses above); written statements should be received on or before July 21, 2003. All written submissions will become part of the Committee record and deliberations.

Information on Services for Individuals with Disabilities.For information on facilities or services for individuals with disabilities, or to request special assistance at the meeting, please notify the Designated Federal Official as soon as possible by phone or e-mail.

Dated: July 8, 2003.
Janet Hale,
Under Secretary for Management.

[FR Doc. 03-17595 Filed 7-10-03; 8:45 am]

BILLING CODE 4410-10-P